DEPARTMENT OF THE INTERIOR

Fish and Wildlife Service

[FWS-R1-ES-2013-N284; FXES11120100000-145-FF01E00000]

Draft Programmatic Candidate Conservation Agreement With Assurances for the Greater Sage-Grouse in Harney County, Oregon and Draft Environmental Assessment

AGENCY: Fish and Wildlife Service, Interior.

ACTION: Notice of receipt; Notice of availability; Request for comments.

SUMMARY: We, the U.S. Fish and Wildlife Service (Service), have received an application from the Harney Soil and Water Conservation District (SWCD) for an enhancement of survival (EOS) permit under section 10(a)(1)(A) of the Endangered Species Act of 1973, as amended (ESA). The permit application includes a draft programmatic candidate conservation agreement with assurances (CCAA) between the SWCD and the Service for the greater sage-grouse (Centrocercus urophasianus) in Harney County, Oregon. The Service and SWCD prepared the programmatic CCAA to provide ranchers and farmers in Harney County with the opportunity to voluntarily conserve the greater sage-grouse and its habitat while carrying out ranch and farm operations. The Service also announces the availability of a draft environmental assessment (EA) that has been prepared in response to the permit application in accordance with requirements of the National Environmental Policy Act (NEPA). We are making the draft CCAA and draft EA available for public review and comment.

DATES: To ensure consideration, please send your written comments by February 14, 2014.

ADDRESSES: To request further information or submit written comments, please use one of the following methods, and note that your information request or comments are in reference to the Harney SWCD CCAA:

• Internet: Documents may be viewed on the Internet at http://www.fws.gov/oregonfwo/.

• Email: FW1HarneySWCDCCAA@fws.gov. Include “Harney SWCD CCAA” in the subject line of the message or comments.

• U.S. Mail: U.S. Fish and Wildlife Service, Bend Field Office, 63095 Deschutes Market Road, Bend, Oregon 97701.

• In-Person Viewing or Pickup: Documents will be available for public inspection by appointment during normal business hours at the U.S. Fish and Wildlife Service's Bend Field Office, 63095 Deschutes Market Road, Bend, Oregon 97701; and at the Harney Soil and Water Conservation District Office, 530 Hwy 20 South, Hines, Oregon.

• Fax: Bend Field Office, 541-383-7638, Attn.: Harney SWCD CCAA.

FOR FURTHER INFORMATION CONTACT: Nancy Gilbert or Angela Sitz, Bend Field Office (see ADDRESSES), telephone: 541-383-7146. If you use a telecommunications device for the deaf, please call the Federal Information Relay Service at 800-877-8339.

SUPPLEMENTARY INFORMATION:

Background

Private and other non-Federal property owners are encouraged to enter into CCAAs, in which they voluntarily undertake management activities on their properties to enhance, restore, or maintain habitat benefiting species that are proposed for listing under the ESA, candidates for listing, or species that may become candidates or proposed for listing. Through a CCAA and its associated EOS permit the Service provides assurances to property owners that they will not be subjected to increased land use restrictions if the covered species become listed under the ESA in the future, provided certain conditions are met. Application requirements and issuance criteria for enhancement of survival permits for CCAAs are found in the Code of Regulations (CFR) at 50 CFR 17.22(d) and 17.32(d), respectively. See also our joint policy on CCAAs, which we published in the Federal Register with the Department of Commerce's National Oceanic and Atmospheric Administration, National Marine Fisheries Service (64 FR 32726; June 17, 1999).

On March 23, 2010, the Service determined that listing the greater sage-grouse under the ESA (16 U.S.C. 1538) was warranted, but precluded by the need to address higher priority species first. In anticipation of a listing decision by the Service, the SWCD established the Harney County Greater Sage-Grouse Candidate Conservation Agreement with Assurances Steering Committee (Steering Committee) and requested assistance from the Service in developing a greater sage-grouse conservation strategy for ranch and land management activities that could offer landowners assurances that their ranch and farm practices could continue in the event this species was listed under the ESA. The Steering Committee is comprised of local private landowners and representatives from the SWCD, the Service, Natural Resources Conservation Service, Bureau of Land Management, Oregon Department of Fish and Wildlife, Oregon Department of State Lands, Oregon State University Extension, Eastern Oregon Agricultural Research Center, The Nature Conservancy, and the Harney County Court. The Service, in coordination with the SWCD and the Steering Committee, developed the draft programmatic CCAA. The intent of the CCAA is to use voluntary, proactive conservation measures to reduce or remove threats to the greater sage-grouse in Harney County, thereby potentially reducing the need to list the species.

Proposed Action

The Service proposes to approve the CCAA and to issue an EOS permit to Harney SWCD for incidental take of greater sage-grouse caused by covered activities, if permit issuance criteria are met. The proposed CCAA covers an area of approximately 1.1 million acres of privately owned lands within the range of the greater sage-grouse in Harney County, Oregon. The CCAA covers numerous activities associated with ranching, farming and some irrigated agriculture. The CCAA contains a comprehensive list of conservation measures designed to avoid or minimize potential threats to the greater sage-grouse on private rangelands. The proposed term of the CCAA and EOS permit is 30 years.

The CCAA is programmatic in nature. A private landowner who wishes to enroll in the CCAA would develop, in coordination with the SWCD, a site-specific plan (SSP) for the property to be enrolled. The SWCD would assist the landowner in selecting appropriate conservation measures from the CCAA for their SSP that would address specific threats to the greater sage-grouse associated with their property and operations. If their SSP is approved by the Service and the SWCD, the landowner would receive coverage under the EOS permit, through a Certificate of Inclusion, for take of the greater sage-grouse incidental to conservation and ranching and farming activities, should the species become listed. Take authorization would become effective upon listing as long as the enrolled landowner is in compliance with the terms and conditions of the permit and the provisions of their SSP.

Consistent with our CCAA Policy (64 FR 32726), the conservation goal of the proposed CCAA is to encourage enhancement and protection of greater sage-grouse habitat on non-Federal lands by either maintaining or modifying existing land uses so that they are consistent with the conservation needs of the greater sage-grouse. We can meet this conservation goal with the use of a CCAA by giving non-Federal landowners incentives to implement conservation measures, primarily through regulatory certainty concerning land-use restrictions that might otherwise apply should the greater sage-grouse become listed under the ESA.

National Environmental Policy Act Compliance

The development of the CCAA and the proposed issuance of an EOS permit is a Federal action that triggers the need for compliance with the NEPA, as amended (42 U.S.C. 4321 et seq.). We have prepared a draft EA to analyze the direct, indirect, and cumulative environmental impacts of three alternatives on the quality of the human environment and other natural resources:

Alternative 1 (No Action): Under the No-Action alternative which represents current management, there would not be any Service-approved CCAA or SSPs and no EOS permit or Certificates of Inclusion addressing the greater sage-grouse within Harney County. Thus, conservation measures associated with a CCAA to reduce threats to the greater sage-grouse in Harney County would not be implemented and the regulatory assurances associated with an EOS permit, which are a major conservation incentive to enrolled landowners, would not be available. Ongoing efforts by other local, State, and Federal agencies and organizations to conserve the greater sage-grouse would still be in place in Harney County, however, the ability to complement and enhance these other efforts with a CCAA and EOS permit would not be available.

Alternative 2 (Landowner-specific CCAAs): Under this alternative, landowners would develop individual CCAAs with the Service for the greater sage-grouse, and the Service would issue EOS permits on a case by case basis, if the permit issuance criteria are met, to each landowner interested in conserving the greater sage-grouse. Developing individual CCAAs without the guidance provided in a programmatic CCAA would be more expensive and time consuming for landowners and the Service due to the need to prepare separate ESA and NEPA compliance documents and procedures for each CCAA.

Alternative 3 (Proposed Action): The proposed action alternative is issuance of an EOS permit to the SWCD if the permit issuance criteria are met, and the implementation of the programmatic CCAA. The programmatic CCAA provides a streamlined process for non-Federal landowners to voluntarily complete SSPs and be issued a Certificate of Inclusion to receive coverage under the EOS permit that would be issued to the SWCD.

Public Comments

You may submit your comments and materials by one of the methods listed in the ADDRESSES section. We specifically request information, views, and opinions from the public on our proposed Federal permit action, including identification of any other affected aspects of the human environment not already identified in the draft EA pursuant to NEPA regulations at 40 CFR 1506.6. Further, we specifically solicit information regarding the adequacy of the CCAA pursuant to the requirements for permits at 50 CFR parts 13 and 17.

Public Availability of Comments

All comments and materials we receive become part of the public record associated with this action. Before including your address, phone number, email address, or other personal identifying information in your comments, you should be aware that your entire comment—including your personal identifying information—may be made publicly available at any time. While you can ask us in your comment to withhold your personal identifying information from public review, we cannot guarantee that we will be able to do so. Comments and materials we receive, as well as supporting documentation we use in preparing the EA, will be available for public inspection by appointment, during normal business hours, at our Bend Field Office (see ADDRESSES).

Next Steps

After completion of the EA based on consideration of public comments on the draft EA, we will determine whether adoption of the proposed CCAA warrants a finding of no significant impact or whether an environmental impact statement should be prepared. We will evaluate the proposed CCAA as well as any comments we receive on it, to determine whether the CCAA would meet the requirements for an EOS permit under section 10(a)(1)(A) of the ESA. We will also evaluate whether issuance of an EOS permit would comply with section 7 of the ESA by conducting an intra-Service section 7 consultation on the proposed permit action. We will consider the results of this consultation, in combination with the above findings, in our final analysis to determine whether or not to issue an EOS permit to the SWCD. The final NEPA and permit decisions will not be completed until after the end of the 30-day comment period on this notice, and will fully consider all comments received during the comment period.

If we determine that the permit issuance requirements are met, the Service would issue an EOS permit to the SWCD. The SWCD would then begin processing applications from interested landowners to develop SSPs that meet the terms and conditions established in the CCAA to receive coverage for the incidental take of the greater sage-grouse. If the SSP is consistent with the CCAA, the Service will issue a letter of concurrence to the SWCD approving the SSP, and the SWCD and landowner may then sign a Certificate of Inclusion.

Authority

We provide this notice in accordance with the requirements of section 10 of the ESA (16 U.S.C. 1531 et seq.), and NEPA regulations (40 CFR 1501.7, 1506.6, and 1508.22).

Dated: December 19, 2013.
Hugh Morrison,
Acting Deputy Regional Director, Pacific Region, U.S. Fish and Wildlife Service, Portland Oregon.

[FR Doc. 2014-00600 Filed 1-14-14; 8:45 am]

BILLING CODE 4310-55-P